DEPARTMENT OF COMMERCE

National Oceanic and Atmospheric Administration

[RTID 0648-XB707]

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation (LOCs) for activities conducted under the General Authorization for Scientific Research on marine mammals. See SUPPLEMENTARY INFORMATION for a list of names and addresses of recipients.

ADDRESSES: The LOCs and related documents are available for review upon written request via email to NMFS.Pr1Comments@noaa.gov.

FOR FURTHER INFORMATION CONTACT: Amy Hapeman (LOC Nos. 24033, 25471, 25529, and 25638), Carrie Hubard (LOC Nos. 20346, 24045, 24067, 25527, and 25574), Erin Markin (LOC No. 23796), Shasta McClenahan, Ph.D. (LOC No. 23069), Courtney Smith, Ph.D. (LOC Nos. 19540 and 22587), and Sara Young (LOC Nos. 20386, 25751 and 25811) at the email listed above or 301-427-8401.

SUPPLEMENTARY INFORMATION: The requested LOCs have been issued under the authority of the Marine Mammal Protection Act of 1972, as amended (16 U.S.C. 1361 et seq.), and the regulations governing the taking and importing of marine mammals (50 CFR part 216). The General Authorization allows for bona fide scientific research that may result only in taking by Level B harassment of marine mammals. The following LOCs were issued in Fiscal Year 2021 (October 1, 2020-September 30, 2021).

File No. 24033: Issued to Eric Montie, Ph.D., University of South Carolina Beaufort, One University Boulevard, Bluffton, South Carolina 29909, on October 23, 2020. This LOC authorizes vessel-based surveys for behavioral observations, photo-identification, passive acoustics, and photography/videography of bottlenose dolphins (Tursiops truncatus) in the coastal waters of Bluffton and Hilton Head, South Carolina. The objectives of the research are to better understand the acoustic ecology of bottlenose dolphins and their prey and to estimate the carrying capacity of bottlenose dolphins in South Carolina and its relation to water quality. The LOC replaces No. 20066 on April 1, 2021 and expires on March 31, 2026.

File No. 24067: Issued to Jacqueline Bucsa, George Mason University, 1450 Exploratory Hall, Fairfax, Virginia 22030, on January 28, 2021. This LOC authorizes vessel-based surveys for behavioral observations and photo-identification of bottlenose dolphins in the lower Chesapeake Bay and coastal waters of Virginia. The objectives of the research are to develop an understanding of prey selection by bottlenose dolphins, specifically mother-calf pairs, and to examine how they meet their unique, high energy demands. The LOC expires on January 31, 2023.

File No. 24045: Issued to Jeremy Kiszka, Ph.D., Florida International University, 3000 NE 151st Street, Marine Science Building, Room 250D, North Miami, Florida 33181 on February 10, 2021. This LOC authorizes vessel-based surveys for photo-identification, photography, videography, and behavioral observations of bottlenose and Atlantic spotted (Stenella frontalis) dolphins. Research may occur in Biscayne Bay and coastal waters of Broward and Miami Dade counties, Florida out to 200 m depth. The objectives of the research are to examine the distribution, behavior and abundance of dolphins in the study area. The LOC expires on February 10, 2024.

File No. 23069: Issued to Florida Atlantic University's Harbor Branch Oceanographic Institute, 777 Glades Road, Boca Raton, Florida 33431 (Responsible Party [RP]: Daniel Flynn, Ph.D.; Principal Investigator [PI]: Steven Burton) on March 16, 2021. This LOC authorizes monthly vessel-based photo-identification and observational surveys of cetaceans in Florida for research projects involving cetacean biology, ecology, behavior, social structure, health, and anthropogenic activities. The authorized research area includes intercoastal and coastal waters of Florida from Sebastian Inlet to Jupiter Inlet, including the Indian River Lagoon and the Atlantic Ocean. Authorized species include Atlantic spotted, bottlenose, pantropical spotted (Stenella attenuata), Risso's (Grampus griseus), and rough-toothed (Steno bredanensis) dolphins; and humpback (Megaptera novaeangliae), long-finned pilot (Globicephala macrorhynchus), pygmy sperm (Kogia breviceps), and short-finned pilot (G. melas) whales. The LOC expires on March 31, 2026.

File No. 23796: Issued to Quincy Gibson, Ph.D., University of North Florida, 1 UNF Drive, Jacksonville, Florida 32266, on March 17, 2021. This LOC authorizes vessel-based research surveys to include close approach, photo-identification, behavioral observations, videography, passive acoustic recording, and focal follows of bottlenose dolphins within estuarine waters of Northeast Florida. Specifically, the authorized area includes the inland waterways of the St. Johns River from the river mouth at Mayport to approximately 40 kilometers upriver to Hart Bridge and the Intracoastal Waterway from the Florida-Georgia border at St. Mary's Inlet south to Palm Valley Bridge in Ponte Vedra, Florida. The objective of the research is to continue a 10-year photo-identification study of bottlenose dolphins, focusing on biology, ecology, behavior, social structure, and health. The LOC expires on March 31, 2026.

File No. 20386: This LOC, held by Golden Gate Cetacean Research, 9 Edgemar Way, Corte Madera, California 94925 (RP: William Keener, J.D.; PI: Isidore Szczepaniak), was extended on March 30, 2021, for one year. The LOC authorizes vessel surveys for close-approach, photo-identification, and behavioral observations of harbor porpoises (Phocoena phocoena) and bottlenose dolphins in Monterey Bay through northern California waters, including San Francisco Bay, and Kachemak Bay, Alaska. The purpose of the research is to collect photographic and observational data on the distribution and occurrence of harbor porpoise in San Francisco Bay and to track the movements of California coastal bottlenose dolphins to the northern limits of their range, as well as conduct a comparative study with harbor porpoises in Kachemak Bay, Alaska. The objectives of the research will not change. The extended LOC expires on July 31, 2022.

File No. 25471: Issued to Andrew Read, Ph.D., Duke University, 135 Duke Marine Lab Rd., Beaufort, NC 28516, on April 02, 2021. This LOC authorizes vessel-based surveys for close approach, photo-identification, behavioral observations, and focal follows for 22 species of cetaceans: Atlantic spotted, bottlenose, clymene (Stenella clymene), common short-beaked (Delphinus delphis), Fraser's (Lagenodelphis hosei), pantropical spotted, rough-toothed, Risso's, rough-toothed, spinner (Stenella longirostris), and striped (Stenella coeruleoalba) dolphins; harbor porpoise; Cuvier's (Ziphius cavirostris) and Mesoplodon spp. beaked whales; dwarf (Kogia sima) and pygmy (Kogia breviceps) sperm whales; and false killer (Pseudorca crassidens), killer (Orcinus orca), melon-headed (Peponocephala electra), minke whale (Balaenoptera acutorostrata), pygmy killer (Feresa attenuata), and short- and long-finned pilot whales. Research may occur in waters off the Florida/Georgia border, the South Carolina/North Carolina border, and from Cape Hatteras, North Carolina up to Norfolk Canyon, Virginia. The objective of the research is to provide baseline data on the density, abundance, distribution, behavior and seasonal movements of cetaceans. The LOC replaces No. 19903 on May 1, 2021 and expires on April 30, 2026.

File No. 25529: Issued to Maddalena Bearzi, Ph.D., Ocean Conservation Society, P.O. Box 12860, Marina del Ray, California 90295, on April 6, 2021, to take effect on August 16, 2021. This LOC authorizes vessel surveys of 17 species of marine mammals for close approach, counts, photo-identification, photography/videography, underwater photography/videography, behavioral observations, and focal follows within Santa Monica Bay and adjacent California waters. Species include: Bottlenose dolphins, California sea lions (Zalophus californianus), Dall's porpoise (Phocoenoides dalli), Eastern North Pacific gray whales (Eschrichtius robustus), harbor porpoises, harbor seals (Phoca vitulina), killer whales, long-beaked common dolphins (Delphinus capensis), minke whales, northern elephant seals (Mirounga angustirostris), northern right whale dolphins (Lissodelphis borealis), Pacific white-sided dolphins (Lagenorhynchus obliquidens), Risso's dolphins, short-beaked common dolphins, short-finned pilot whales, and striped dolphins. The objective of the research is to continue the long-term study of the biology and ecology of marine mammals in the action area. The LOC expires on August 1, 2026.

File No. 19540: This LOC, held by Shannon Gowans, Ph.D., Eckerd College, 4200 54th Avenue South, St. Petersburg, Florida 33711, was extended on May 28, 2021, for approximately one year. The LOC authorizes vessel-based behavioral observations, photo-identification, and passive acoustic recording of bottlenose, rough-toothed, and Atlantic spotted dolphins in Tampa Bay and its surrounding waters. The objectives of the research will not change. The extended LOC expires on May 31, 2022.

File No. 25527: Issued to Zach McKenna, St. Augustine Dolphin Research, 1093 A1a Beach Blvd. #430, St. Augustine, Florida 32080, on June 1, 2021. This LOC authorizes vessel-based surveys for close approach, photo-identification, behavioral observations, videography, and passive acoustic recordings of bottlenose dolphins. Research may occur in inland Florida waters from the St. Johns River-Intracoastal Waterway boundary south to Marineland. The objectives of the research are to identify and refine dolphin stock units in Florida, assess regional population biology and behavioral ecology, and document dolphin survival threats (e.g., human-caused entanglements and injuries). The LOC expires on May 31, 2026.

File No. 25638: Issued to Clearwater Marine Aquarium (PI: Lisa Oliver), 249 Windward Passage, Clearwater, Florida 33767, on July 6, 2021. This LOC authorizes vessel and aerial-based surveys on bottlenose dolphins for acoustic, passive recording, photo-identification, behavioral observations, count/survey, and photography/videography. Research may occur in the estuarine and coastal waters of West Central Florida. The objective of the research is to continue a longitudinal study on the home ranges, distribution, population abundance, site fidelity, and reproductive success of bottlenose dolphins. The LOC expires on July 15, 2026.

File No. 22587: Issued to Dolphin Research Center (PI: Armando Rodriguez), P.O. Box 522875, Marathon Shores, FL 33052, on August 4, 2021. This amended LOC (No. 22587-01) authorizes the use of unmanned aerial systems (UAS) for breath sampling, photography, and photogrammetry of bottlenose dolphins in the middle Florida Keys. The new objective of the research is to enhance the current vessel-based photo-identification field study by collecting morphometric and DNA information of dolphins. The LOC expires on February 15, 2024.

File No. 25751: Issued to Shoals Marine Laboratory (PI: Andrea Bogomolni, Ph.D.), University of New Hampshire, 24 Colovos Road, Durham, New Hampshire 03824, on August 24, 2021. This LOC authorizes vessel surveys, photo-identification, counts, and behavioral and monitoring observations of gray (Halichoerus grypus) and harbor seals in Maine and New Hampshire waters. The objectives of the research are to monitor changes in number and distribution of seals, re-sight of unique individuals, document use of the area by mother-pup pairs, visually assess health of individuals, and monitor the effects of human disturbance on seals. The LOC expires on August 31, 2026.

File No. 25811: Issued to the Naval Facilities Engineering Systems Command Atlantic (RP: Deanna Rees; PI: Danielle Jones), 6506 Hampton Boulevard, Norfolk, Virginia 23508. This LOC authorizes close approach, counts, unintentional disturbance, photo-identification, photography/videography, and behavioral observations of harbor and gray seals via vessel surveys, ground surveys, and UAS along the coast of Virginia. Harp seals may be observed during research. The objective of the research is to collect data on pinniped occurrence, movement, habitat use, and haul-out patterns at known haul-out areas near the lower Chesapeake Bay and the Eastern Shore, Virginia. The LOC expires on September 30, 2026.

File No. 20346: This LOC, held by Ann Weaver, Ph.D., Good-natured Statistics Consulting, P.O. Box 8732, St Petersburg, Florida 33738, was extended on September 13, 2021, while the holder's new application (File No. 25957) is in process. The LOC authorizes vessel-based research of bottlenose dolphins, including abundance surveys, behavioral observations, photography and video in and around a 6.5-mile stretch of the Intracoastal Waterway near John's Pass, Florida. The objectives of the research would not change. The extended LOC expires on September 1, 2022, or until a decision is made on the new application, whichever occurs first.

File No. 25574: Issued to Wendy Noke Durden, Hubbs-Sea World Research Institute, 3830 South Highway A1A #4-181, Melbourne Beach, Florida 32951, on September 23, 2021. This LOC authorizes vessel-based surveys and UAS flights for photo-identification, behavioral observations, focal follows, passive acoustic recordings, and breath sampling of bottlenose dolphins. Research may occur in the inland waters along the east coast of Florida from northernmost limits of Flagler County to Jupiter Inlet, including the Indian River Lagoon, with a focus on Mosquito Lagoon and the Halifax River estuary. The objective of the research is to evaluate the abundance, stock association, distribution, residency, social structure, population dynamics, habitat use, health, demography, behavior, anthropogenic interactions, and contact calls of dolphins within the study area. The LOC expires on September 30, 2026.

File No. 25895: Issued to Jacalyn Sullivan, Stockton University, 101 Vera King Farris Drive, Galloway, New Jersey 08205, on October 29, 2021. This LOC authorizes UAS surveys of harbor seals for count/survey, behavioral observation monitoring, photo-identification, and videography. The objective of the research is to determine temporal patterns of harbor seal habitat use in Great Bay, New Jersey, population size, and shifts over time as a nearby wind farm becomes operational. The LOC expires on October 31, 2026.

File No. 25835: Issued to Tampa Bay Watch (PI: Savannah Gandee), 3000 Pinellas Bayway South, Tierra Verde, Florida 33715, on December 21, 2021. This LOC authorizes vessel-based surveys of bottlenose dolphins for behavioral observations, photo-identification, passive acoustics, count/survey, and photography/videography in Tampa Bay. The objective of the research is to provide an updated account of the common bottlenose dolphin population that utilizes understudied regions of Tampa Bay for management and conservation purposes. The LOC expires on December 31, 2021.

In compliance with the National Environmental Policy Act of 1969 (42 U.S.C. 4321 et seq.), a final determination has been made that the activities are categorically excluded from the requirement to prepare an environmental assessment or environmental impact statement.

Dated: January 7, 2022.
Julia M. Harrison,
Chief, Permits and Conservation Division, Office of Protected Resources, National Marine Fisheries Service.

[FR Doc. 2022-00496 Filed 1-20-22; 8:45 am]

BILLING CODE 3510-22-P